DEPARTMENT OF ENERGY

Federal Energy Regulatory Commission

[Docket No. CP22-2-000]

Gas Transmission Northwest LLC; Notice of Revised Schedule for Environmental Review of the GTN XPress Project

This notice provides the Federal Energy Regulatory Commission staff's revised schedule for completion of the environmental impact statement (EIS) for Gas Transmission Northwest LLC's (GTN) GTN XPress Project. The Notice of Intent issued on January 21, 2022 identified October 14, 2022 as the final EIS issuance date. However, numerous comments filed during the draft EIS comment period require additional time for Commission staff's analysis. As a result, staff has revised the schedule for issuance of the final EIS.

Schedule for Environmental Review

Issuance of the Notice of Availability of the final EIS—November 18, 2022

90-day Federal Authorization Decision Deadline ¹—February 16, 2023

¹ The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, an additional notice will be provided so that the relevant agencies are kept informed of the project's progress.

Additional Information

In order to receive notification of the issuance of the EIS and to keep track of all formal issuances and submittals in specific dockets, the Commission offers a free service called eSubscription. This can reduce the amount of time you spend researching proceedings by automatically providing you with notification of these filings, document summaries, and direct links to the documents. Go to https://www.ferc.gov/ferc-online/overview to register for eSubscription.

Additional information about the Project is available from the Commission's Office of External Affairs at (866) 208-FERC or on the FERC website (www.ferc.gov). Using the “eLibrary” link, select “General Search” from the eLibrary menu, enter the selected date range and “Docket Number” excluding the last three digits (i.e., CP22-2), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: October 7, 2022.
Kimberly D. Bose,
Secretary.

[FR Doc. 2022-22365 Filed 10-13-22; 8:45 am]

BILLING CODE 6717-01-P